OVERSEAS PRIVATE INVESTMENT CORPORATION

Sunshine Act Meetings; Cancellation Notice

OPIC March 13, 2013 Public Hearing Cancellation.

OPIC's Sunshine Act notice of its Public Hearing in Conjunction with each Board meeting was published in the Federal Register (Volume 78, Number 41, Page 13912) on March 1, 2013. No requests were received to provide testimony or submit written statements for the record; therefore, OPIC's public hearing scheduled for 3 p.m., March 13, 2013 in conjunction with OPIC's March 21, 2013 Board of Directors meeting has been cancelled.

Contact Person for Information: Information on the hearing cancellation may be obtained from Connie M. Downs at (202) 336-8438, or via email at Connie.Downs@opic.gov.

Dated: March 8, 2013.
Connie M. Downs,
OPIC Corporate Secretary.

[FR Doc. 2013-05887 Filed 3-11-13; 11:15 am]

BILLING CODE 3210-01-P